DEPARTMENT OF THE INTERIOR

National Park Service

Notice of Intent to Repatriate Cultural Items: U.S. Department of the Interior, National Park Service, Intermountain Region, Santa Fe, NM; Correction

AGENCY: National Park Service, Interior.

ACTION: Notice; correction.

This notice is published as part of the National Park Service's administrative responsibilities under NAGPRA, 25 U.S.C. 3003 (d)(3). The determinations in this notice are the sole responsibility of the NAGPRA coordinator, Intermountain Region.

This notice corrects the number of sacred objects affiliated with the Pueblo of Santa Ana, New Mexico in a Notice of Intent to Repatriate published on July 23, 2008, in the Federal Register (FR Doc. E8-16732, page 42827) from three to one. Based on additional information received when the items were to be repatriated, the NAGPRA coordinator, Intermountain Region, determined that two of the sacred objects are not culturally affiliated with the Pueblo of Santa Ana, New Mexico. The cultural affiliation of those two objects is undetermined at this time. Repatriation of the sacred object described as a bundle with eagle feathers in the July 23, 2008, Notice of Intent to Repatriate is not affected by this correction.

In the Federal Register of July 23, 2008, (FR Doc. E8-16732, page 42827), paragraph numbers 3-5 are corrected by substituting the following three paragraphs:

In 1994, the National Park Service assisted the Federal Bureau of Investigation and the United States Fish and Wildlife Service with the investigation of a Migratory Bird Treaty Act violation. The evidence included a collection of Native American objects confiscated from the East-West Trading Post in Santa Fe, NM. Preliminary subject matter expert review of the collection indicated that the objects were historically significant and potentially subject to NAGPRA. The collection was accessioned in 2002 into the Southwest Regional Office collections, now called the Intermountain Region Office. The cultural item covered in this notice is one bundle with eagle feathers.

Following adjudication of the case, a detailed assessment of the object was made by Intermountain Region (IMR) NAGPRA program staff in close collaboration with the IMR Museum Services program staff and in consultation with representatives of potentially affiliated tribes. During consultation, representatives of the Pueblo of Santa Ana, New Mexico, identified the cultural item as a specific ceremonial object needed by traditional Pueblo of Santa Ana religious leaders for the practice of a traditional Native American religion by their present-day adherents. Oral tradition evidence presented by representatives of the Pueblo of Santa Ana, New Mexico, and the written repatriation request received by the Intermountain Region further articulated the ceremonial significance of the cultural item to the Pueblo of Santa Ana, New Mexico. Based on anthropological information, court case documentation, oral tradition, museum records, consultation evidence, and expert opinion, there is a cultural affiliation between the Pueblo of Santa Ana, New Mexico, and the sacred object.

Officials of the Intermountain Region have determined that, pursuant to 25 U.S.C. 3001(3)(C), the cultural item described above is a specific ceremonial object needed by traditional Native American religious leaders for the practice of traditional Native American religions by their present-day adherents. Officials of the Intermountain Region also have determined that, pursuant to 25 U.S.C. 3001(2), there is a relationship of shared group identity that can be reasonably traced between the sacred object and the Pueblo of Santa Ana, New Mexico. Repatriation of the sacred object to the Pueblo of Santa Ana, New Mexico, occurred after the 30 day comment period expired for the original July 23, 2008, Notice of Intent to Repatriate.

The Intermountain Region is responsible for notifying the Apache Tribe of Oklahoma; Fort Sill Apache Tribe of Oklahoma; Hopi Tribe of Arizona; Jicarilla Apache Nation, New Mexico; Mescalero Apache Tribe of the Mescalero Reservation, New Mexico; Navajo Nation, Arizona, New Mexico & Utah; Ohkay Owingeh, New Mexico (formerly the Pueblo of San Juan); Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Carlos Apache Tribe of the San Carlos Reservation, Arizona; Tonto Apache Tribe of Arizona; Ute Mountain Tribe of the Ute Mountain Reservation, Colorado, New Mexico & Utah; White Mountain Apache Tribe of the Fort Apache Reservation, Arizona; Yavapai-Apache Nation of the Camp Verde Indian Reservation, Arizona; Ysleta Del Sur Pueblo of Texas; and Zuni Tribe of the Zuni Reservation, New Mexico that this correction has been published.

Dated: October 6, 2008
Sherry Hutt,
Manager, National NAGPRA Program.

[FR Doc. E8-25760 Filed 10-28-08; 8:45 am]

BILLING CODE 4312-50-S